DEPARTMENT OF COMMERCE

Bureau of Industry and Security

15 CFR Part 774

The Commerce Control List

CFR Correction

This rule is being published by the Office of the Federal Register to correct an editorial or technical error that appeared in the most recent annual revision of the Code of Federal Regulations.

In Title 15 of the Code of Federal Regulations, Parts 745 to 799, revised as of January 1, 2025, in supplement 1 to part 774, after 1B999, reinstate the following text to read as follows:

Supplement No. 1 to Part 774—The Commerce Control List

* * * * *

C. “Materials”

Technical Note: Metals and alloys: Unless provision to the contrary is made, the words “metals” and “alloys” in 1C001 to 1C011 cover crude and semi-fabricated forms, as follows:

Crude forms: Anodes, balls, bars (including notched bars and wire bars), billets, blocks, blooms, brickets, cakes, cathodes, crystals, cubes, dice, grains, granules, ingots, lumps, pellets, pigs, powder, rondelles, shot, slabs, slugs, sponge, sticks;

Semi-fabricated forms (whether or not coated, plated, drilled or punched):

a. Wrought or worked materials fabricated by rolling, drawing, extruding, forging, impact extruding, pressing, graining, atomizing, and grinding, i.e.: angles, channels, circles, discs, dust, flakes, foils and leaf, forging, plate, powder, pressings and stampings, ribbons, rings, rods (including bare welding rods, wire rods, and rolled wire), sections, shapes, sheets, strip, pipe and tubes (including tube rounds, squares, and hollows), drawn or extruded wire;

b. Cast material produced by casting in sand, die, metal, plaster or other types of molds, including high pressure castings, sintered forms, and forms made by powder metallurgy.

The object of the control should not be defeated by the export of non-listed forms alleged to be finished products but representing in reality crude forms or semi-fabricated forms.

* * * * *

[FR Doc. 2025-22137 Filed 12-4-25; 8:45 am]

BILLING CODE 0099-10-P